FEDERAL COMMUNICATIONS COMMISSION

Public Information Collection(s) Requirement Submitted to OMB for Emergency Review and Approval

June 28, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 7, 2006. If you anticipate that you will be submitting comments, but find it difficult to do so within the period of time allowed by this notice, you should advise the contacts listed below as soon as possible.

ADDRESSES: Direct all Paperwork Reduction Act (PRA) comments to Judith B. Herman, Federal Communications Commission, Room 1-C804, 445 12th Street, SW., DC 20554 or an e-mail to PRA@fcc.gov. If you would like to obtain or view a copy of this information collection, you may do so by visiting the FCC PRA web page at: http://www.fcc.gov/omd/pra.

FOR FURTHER INFORMATION CONTACT: For additional information or copies of the information collection(s), contact Judith B. Herman at 202-418-0214 or via the Internet at Judith-B.Herman@fcc.gov.

SUPPLEMENTARY INFORMATION: The Commission has requested OMB approval of this information collection under the emergency processing provisions of the Paperwork Reduction Act by July 20, 2006.

OMB Control Number: 3060-0855.

Title: Telecommunications Reporting Worksheet, CC Docket No. 96-45.

Form Number: FCC Forms 499A and 499Q.

Type of Review: Revision of a currently approved collection.

Respondents: Business or other for-profit and not-for-profit institutions.

Number of Respondents: 5,625 respondents; 17,465 responses.

Estimated Time per Response: 10-25 hours per quarterly filing; 13.5-25 hours per annual filing.

Frequency of Response: On occasion, one-time, quarterly and annual reporting requirements, recordkeeping requirement, and third party disclosure requirement.

Total Annual Burden: 263,230 hours.

Total Annual Cost: 0.

Privacy Impact Assessment: N/A.

Needs and Uses: This collection was submitted as a revision to an existing collection to obtain emergency clearance for FCC Forms 499-A and 499-Q (3060-0855). Universal Service obligations have been extended to Interconnected Voice over Internet Protocol Providers. The Federal Communications Commission (Commission) requires telecommunications carriers and other providers of telecommunications to contribute to the universal service fund. The Commission has found that interconnected VoIP providers are providers of interstate telecommunications. As such, the Commission has determined that interconnected VoIP providers should contribute to the universal service fund. By including interconnected VoIP providers in the contribution base, the Commission ensures that its contribution mechanism remains equitable, nondiscriminatory, and competitive neutral. The Commission determined that interconnected VoIP providers may contribute based on either an interim safe harbor amount, under which interconnected VoIP providers treat 64.9 percent of their telecommunications revenues as interstate; their actual interstate end-user telecommunications revenues; or an estimate of their interstate end-user telecommunications revenues as determined by a traffic study that has been approved by the Federal Communication Commission and submitted to USAC.

In addition, the Commission determined that to the extent wireless providers report revenue based on traffic studies, in lieu of reporting actual interstate end-user telecommunications revenues or the interim wireless safe harbor of 37.1 percent, such traffic studies must be filed with the Federal Communications Commission and the Universal Service Fund administrator.

Federal Communications Commission.
William F. Caton,
Deputy Secretary.

[FR Doc. E6-10474 Filed 7-5-06; 8:45 am]

BILLING CODE 6712-01-P